NUCLEAR REGULATORY COMMISSION

[Docket No. 50-293-LR; ASLBP No. 06-848-02-LR]

Entergy Nuclear Operations, Inc. (Pilgrim Nuclear Power Station); Notice of Reconstitution

Pursuant to 10 CFR 2.321, the Atomic Safety and Licensing Board in the above captioned Entergy Nuclear Operations, Inc. proceeding, is hereby reconstituted by appointing Administrative Judge Paul B. Abramson in place of Administrative Judge Nicholas G. Trikouros who, pursuant to 10 CFR 2.313(b)(1), recused himself from the proceeding on August 30, 2006.

In accordance with 10 CFR 2.302, henceforth all correspondence, documents, and other material relating to any matter in this proceeding over which this Licensing Board has jurisdiction should be served on Administrative Judge Abramson as follows:

Administrative Judge Paul B. Abramson, Atomic Safety and Licensing Board Panel, U.S. Nuclear Regulatory Commission, Washington, DC 20555-0001.

Issued at Rockville, Maryland, this 30th day of August 2006.
E. Roy Hawkens,
Chief Administrative Judge, Atomic Safety and Licensing Board Panel.

[FR Doc. E6-14700 Filed 9-5-06; 8:45 am]

BILLING CODE 7590-01-P